DEPARTMENT OF TRANSPORTATION

Surface Transportation Board

[STB Finance Docket No. 34226]

R.J. Corman Equipment Company, LLC—Acquisition Exemption—Line of CSX Transportation, Inc.

R.J. Corman Equipment Company, LLC (RJCE), a Class III rail carrier, has filed a verified notice of exemption under 49 CFR 1150.41 to acquire approximately 2.16 miles of track in Wayne County, OH, from CSX Transportation, Inc. The line, known as the Wooster Industrial Track, extends between approximately milepost 16.81 and milepost 18.97.

This transaction is related to a simultaneously filed verified notice of exemption in STB Finance Docket No. 34227, R.J. Corman Railroad Company/Cleveland Line-Lease and Operation Exemption-Line of R.J. Corman Equipment Company, LLC, wherein R.J. Corman Railroad Company/Cleveland Line will lease and operate the line being acquired by RJCE.

The parties reported that they intended to consummate the transaction on or soon after July 18, 2002, the effective date of the exemption (7 days after the exemption was filed).

If the notice contains false or misleading information, the exemption is void ab initio. Petitions to revoke the exemption under 49 U.S.C. 10502(d) may be filed at any time. The filing of a petition to revoke does not automatically stay the transaction.

An original and 10 copies of all pleadings referring to STB Finance Docket No. 34226, must be filed with the Surface Transportation Board, 1925 K Street, NW., Washington, DC 20423-0001. In addition, a copy of each pleading must be served on Kevin M. Sheys, 1800 Massachusetts Avenue, NW., Suite 200, Washington, DC 20036-1221.

Board decisions and notices are available on our Web site at www.stb.dot.gov.

Decided: July 25, 2002.
By the Board, David M. Konschnik, Director, Office of Proceedings.
Vernon A. Williams,
Secretary.

[FR Doc. 02-19433 Filed 8-5-02; 8:45 am]

BILLING CODE 4915-00-P